DEPARTMENT OF TRANSPORTATION

Federal Highway Administration

Environmental Impact Statement: Teton County, Wyoming

AGENCY: Federal Highway Administration (FHWA), DOT.

ACTION: Notice of intent and public meeting.

SUMMARY: The FHWA is issuing this notice to advise the public that an environmental impact statement will be prepared in accordance with the National Environmental Policy Act for the proposed highway reconstruction in Teton County, Wyoming. The FHWA in cooperation with the Wyoming Department of Transportation (WYDOT) invite public comment and will be holding a scoping meeting prior to commencing work on the environmental impact statement.

The meeting will be held on Wednesday, September 27, 2000, from 5:30 p.m. to 7:00 p.m. A 60-day scoping period will begin on September 5, 2000, and concluded on November 5, 2000. Written comments on the scope of alternatives and impacts to be considered must be received by WYDOT by November 5, 2000. The meeting will be held at Teton County Public Library, 125 Virginian Lane, in Jackson, WY. Mail written comments on the Project Scope to Mr. Timothy L. Stark, P.E., Environmental Services Manager, WYDOT, 5300 Bishop Boulevard, Cheyenne, WY 82009-3340.

FOR FURTHER INFORMATION CONTACT: Mr. Lee D. Potter, FHWA Wyoming Division, 1916 Evans Avenue, Cheyenne, Wyoming 82001, (307) 772-2012, extension 46.

SUPPLEMENTARY INFORMATION: The FHWA, in cooperation with Wyoming Department of Transportation (WYDOT), hereby give notice that they intend to prepare an Environmental Impact Statement (EIS) in accordance with the National Environmental Policy Act (NEPA), Public Law 91-190, 83 Stat. 852 (1969), as amended, for corridor improvements in the vicinity of Hoback Junction, Teton County, Wyoming. This EIS will evaluate the No Build and other Build Alternatives for proposed road and bridge reconstruction in Teton County along US Highways 191/26/89/189. The project begins approximately 6.1 miles south of Jackson along US Highway 191/26/89/189 and runs south approximately 7.2 miles to Hoback Junction. At Hoback Junction, the project branches to the southwest, along US 26/89, and to the east along US 191/189. The southwest segment, along US 26/89, is approximately 0.9 miles in length and includes the Snake River Bridge. The east segment, along US 191/189, is approximately 2.9 miles in length.

Project scoping will be accomplished through coordination with affected parties, organizations, Federal, State and local agencies and through a public scoping meeting. The FHWA and WYDOT invite interested individuals, organizations, Federal, State and local agencies to participate in defining the alternatives to be evaluated in the EIS and identifying any significant social, economic and environmental issues relating to the alternatives. An information packet describing the purpose of the project, the proposed alternatives, the areas to be evaluated, the citizen involvement program, and the preliminary project schedule will be developed. These scoping materials may be requested by contacting Mr. Timothy L. Stark at the address above. Scoping comments may be made verbally at the public scoping meeting or in writing. The public will receive notices on location and time of the scoping meeting through newspaper advertisements and individual correspondence.

To ensure that a full range of issues related to this proposed action are addressed and all significant actions are identified, comments and suggestions are invited from all interested parties. If you wish to be placed on the mailing list to receive further information as the project develops, contact Mr. Timothy L. Stark, P.E, as previously described.

Authority: 23 U.S.C. 315; 49 CFR 1.48.

Issued on: August 17, 2000.
William C. Jones,
Division Administrator, Cheyenne, WY.

[FR Doc. 00-21697 Filed 8-24-00; 8:45 am]

BILLING CODE 4910-22-M